DEPARTMENT OF THE INTERIOR

Bureau of Indian Affairs

[222A2100DD/AAKC001030/A0A501010.999900253G; OMB Control Number 1076-NEW]

Agency Information Collection Activities; Tribal Colleges and Universities CARES Act and CRRSA Act Report

AGENCY: Bureau of Indian Education, Interior.

ACTION: Notice of information collection; request for comment.

SUMMARY: In accordance with the Paperwork Reduction Act of 1995, we, the Bureau of Indian Education (BIE), are proposing a new information collection.

DATES: Interested persons are invited to submit comments on or before February 28, 2022.

ADDRESSES: Send your comments on this information collection request (ICR) by mail to Steven Mullen, Information Collection Clearance Officer, Office of Regulatory Affairs and Collaborative Action—Indian Affairs, U.S. Department of the Interior, 1001 Indian School Road NW, Suite 229, Albuquerque, New Mexico 87104; or by email to comments@bia.gov. Please reference OMB Control Number 1076-NEW in the subject line of your comments.

FOR FURTHER INFORMATION CONTACT: To request additional information about this ICR, contact Dr. Katherine Campbell, Program Analyst, Office of Research, Policy and Post-secondary, by email at Katherine.campbell@bie.edu or by telephone at (703) 390-6697. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Coronavirus Aid, Relief, and Economic Security (CARES) Act, Public Law 116-136, established the Education Stabilization Fund (ESF) and allocated $30.75 billion to the U.S. Department of Education (ED). The Coronavirus Response and Relief Supplemental Appropriations (CRRSA) Act, Public Law 116-260, added $81.9 billion to the ESF.

ED allocated ESF funds to the Secretary of Interior for programs operated or funded by the BIE to prevent, prepare for, and respond to the Novel Coronavirus Disease 2019 (COVID-19). Specifically, ED allocated one-half of 1 percent for the Secretary of Interior for programs operated or funded by the BIE. On June 12, 2020 ED and BIE executed a memorandum of agreement (ESF-BIE I Agreement) regarding the use of funds.

Additionally, the CRRSA Act requires ED to allocate one-half of 1 percent of the funds under the ESF to the Secretary of Interior for programs operated or funded by the BIE under the terms and conditions established for funding provided under section 18001(a)(2) of the CARES Act, for BIE-operated and funded elementary and secondary schools and Tribal Colleges and Universities. On January 11, 2021 BIE and ED signed a memorandum of agreement regarding (ESF-BIE II Agreement) regarding the use of funds.

In recognition of the mutual interests, BIE agreed to submit reports regarding its use of funds to ED. In accordance with the ESF-BIE I Agreement and ESF-BIE II Addendum, BIE must report to ED on BIE's internal controls and plan for monitoring use of ESF funds by the Tribal Colleges and Universities.

Accordingly, Tribal Colleges and Universities must report, on an annual basis, their expenditures of the ESF, broken down by the following categories: Lost revenue, reimbursement for expenses incurred, technology costs associated with transitioning to distance education, faculty and staff training, payroll, emergency student aid—food, emergency student aid—housing, emergency student aid—course materials, emergency student aid—technology, emergency student aid—health and child care, and other expenses. This information is collected on a form and will be used to monitor TCUs' use of ESF funds.

Title of Collection: Tribal Colleges and Universities CARES Act and CRRSA Act Report.

OMB Control Number: 1076-NEW.

Form Number: None.

Type of Review: New.

Respondents/Affected Public: Tribal colleges and universities.

Total Estimated Number of Annual Respondents: 35.

Total Estimated Number of Annual Responses: 35.

Estimated Completion Time per Response: 2 hours.

Total Estimated Number of Annual Burden Hours: 70 hours.

Respondent's Obligation: Required to obtain benefits.

Frequency of Collection: Annually until December 2022.

Total Estimated Annual Nonhour Burden Cost: $0.

An agency may not conduct or sponsor and a person is not required to respond to a collection of information unless it displays a currently valid OMB control number.

The authority for this action is the Paperwork Reduction Act of 1995 (44 U.S.C. 3501 et seq.).

Steven Mullen,
Information Collection Clearance Officer, Office of Regulatory Affairs and Collaborative Action—Indian Affairs.

[FR Doc. 2021-28113 Filed 12-27-21; 8:45 am]

BILLING CODE 4337-15-P